DEPARTMENT OF DEFENSE

Department of the Army; Corps of Engineers

Missouri River Recovery Implementation Committee; Meeting

AGENCY: Department of the Army, U.S. Army Corps of Engineers, DoD.

ACTION: Notice of meeting.

SUMMARY: In accordance with Section 5018 (b) of the Water Resources Act of 2007, announcement is made of the following committee meeting:

Name of Committee: Missouri River Recovery Implementation Committee.

Date: September 29-October 1, 2008.

Time: 1 p.m. to 6 p.m. (September 29, 2008). 8:30 a.m. to 6 p.m. (September 30, 2008). 8:30 a.m. to 6 p.m. (October 1, 2008).

Place: Sheraton Clayton Plaza Hotel, 7730 Bonhomme Avenue, Clayton, MO 63105.

FOR FURTHER INFORMATION CONTACT: Mary Roth, U.S. Army Corps of Engineers, Northwestern Division, 1616 Capitol Avenue, Suite 365, Omaha, NE 68102-4909.

SUPPLEMENTARY INFORMATION: This will be the first meeting of the Missouri River Recovery Implementation Committee (Committee). Members of the public may attend the meeting in person. Seating is limited and is available on a first-come, first-served basis. Participation by the public is scheduled for 5 p.m.-5:30 p.m. each day of the meeting.

Proposed Agenda: As the initial meeting of the Committee, the goals of the meeting are to have members meet and get acquainted, and discussion and establishment of: Committee operations, goals, and objectives; roles and responsibilities of members; the need for and makeup of subcommittees; the need for professional facilitation; and schedule, location, topics, and assignments for future meetings. The Committee will also be briefed on: the Missouri River Recovery Program; the Missouri River Ecosystem Restoration Plan; the relationship of the Yellowstone River to recovery of the pallid sturgeon; the similarity of appearance of the shovelnose sturgeon to the pallid sturgeon; and the benefits of collaboration.

Members of the public may make oral comments at the meeting or submit written comments. In general, each individual or group making an oral presentation will be limited to five minutes, and total oral comments will be limited to one-half hour each day. Written comments received far enough in advance of the meeting may be provided to the Committee prior to the meeting; comments received too near the meeting date to allow for distribution will be provided to the Committee at the meeting. Comments submitted during or after the meeting will be accepted but may not be provided to the Committee until after the meeting.

Any member of the public who desires further information concerning the meeting or wishes to submit oral or written comments should contact Mary Roth at the address shown in (see ADDRESSES). Requests to make oral comments must be in writing (or by e-mail to mary.s.roth@usace.army.mil) and received by Ms. Roth no later than 5 p.m. Central Daylight Time on September 26, 2008.

Dated: August 28, 2008.
Larry L. Murphy,
Acting Chief, Missouri River Water Management, Northwestern Division, U.S. Army Corps of Engineers.

[FR Doc. E8-20721 Filed 9-5-08; 8:45 am]

BILLING CODE 3710-62-P